DEPARTMENT OF EDUCATION

Notice of Submission for OMB Review; Office of Postsecondary Education; Application for Gaining Early Awareness and Readiness for Undergraduate Programs (GEAR UP) College Savings Account Research Demonstration Project

SUMMARY: GEAR UP is a discretionary grant program which encourages applicants to provide support and maintain a commitment to eligible low-income students, including students with disabilities, to assist the students in obtaining a secondary school diploma and preparing for and succeeding in postsecondary education. This GEAR UP project is designed to determine the effectiveness of pairing federally supported college savings accounts with GEAR UP activities as part of an overall college access and success strategy.

DATES: Interested persons are invited to submit comments on or before August 20, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04894. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for Gaining Early Awareness and Readiness for Undergraduate Programs (GEAR UP) College Savings Account Research Demonstration Project.

OMB Control Number: 1840-0821.

Type of Review: Revision.

Total Estimated Number of Annual Responses: 571.

Total Estimated Number of Annual Burden Hours: 30,590.

Abstract: Current State GEAR UP grantees that received new awards in Fiscal Year (FY) 2011 or FY 2012, that select participating students beginning not later than seventh grade using the cohort approach and that have their cohort of students entering the ninth grade in the 2013-2014 or 2014-2015 academic year are eligible to apply for funding. The purpose of this revision is to introduce the GEAR UP college savings account research demonstration project. The burden increase associated with the collection results from a program change to run this one-time college savings account demonstration project. This collection will results in a change of 26 respondents and an increase of 130 burden hours.

This collection is being submitted under the Streamlined Clearance Process for Discretionary Grant Information Collections (1894-0001). Therefore, the 30-day public comment period notice will be the only public comment notice published for this information collection.

Dated: July 16, 2012.
Darrin A. King,
Director, Information Collection Clearance Division, Privacy, Information and Records Management Services, Office of Management.

[FR Doc. 2012-17662 Filed 7-18-12; 8:45 am]

BILLING CODE 4000-01-P